SECURITIES AND EXCHANGE COMMISSION

[File No. 500-1]

Samaritan Pharmaceuticals, Inc., Seaena, Inc., Seirios International, Inc. (f/k/a Exactly Sportswear, Inc.), et al.; Order of Suspension of Trading

June 14, 2011.

Samaritan Pharmaceuticals, Inc., Seaena, Inc., Seirios International, Inc. (f/k/a Exactly Sportswear, Inc.), Sento Corp., Shoe Pavilion, Inc., Silver Eagle Resources Ltd. (n/k/a Mercator Minerals Ltd.), Simex Technologies, Inc. (n/k/a CT Holdings, Inc.), and Sola Resource Corp. (n/k/a Cancana Resources Corp.)

It appears to the Securities and Exchange Commission that there is a lack of current and accurate information concerning the securities of Samaritan Pharmaceuticals, Inc. because it has not filed any periodic reports since the period ended December 31, 2008.

It appears to the Securities and Exchange Commission that there is a lack of current and accurate information concerning the securities of Seaena, Inc. because it has not filed any periodic reports since the period ended June 30, 2008.

It appears to the Securities and Exchange Commission that there is a lack of current and accurate information concerning the securities of Seirios International, Inc. (f/k/a Exactly Sportswear, Inc.) because it has not filed any periodic reports since September 30, 1995.

It appears to the Securities and Exchange Commission that there is a lack of current and accurate information concerning the securities of Sento Corp. because it has not filed any periodic reports since the period ended December 31, 2006.

It appears to the Securities and Exchange Commission that there is a lack of current and accurate information concerning the securities of Shoe Pavilion, Inc. because it has not filed any periodic reports since the period ended March 29, 2008.

It appears to the Securities and Exchange Commission that there is a lack of current and accurate information concerning the securities of Silver Eagle Resources Ltd. (n/k/a Mercator Minerals Ltd.) because it has not filed any periodic reports since January 16, 1998.

It appears to the Securities and Exchange Commission that there is a lack of current and accurate information concerning the securities of Simex Technologies, Inc. (n/k/a CT Holdings, Inc.) because it has not filed any periodic reports since the period ended September 30, 2008.

It appears to the Securities and Exchange Commission that there is a lack of current and accurate information concerning the securities of Sola Resource Corp. (n/k/a Cancana Resources Corp.) because it has not filed any periodic reports since the period ended January 31, 2003.

The Commission is of the opinion that the public interest and the protection of investors require a suspension of trading in the securities of the above-listed companies.

Therefore, it is ordered, pursuant to Section 12(k) of the Securities Exchange Act of 1934, that trading in the securities of the above-listed companies is suspended for the period from 9:30 a.m. EDT on June 14, 2011, through 11:59 p.m. EDT on June 27, 2011.

By the Commission.
Jill M. Peterson,
Assistant Secretary.

[FR Doc. 2011-15056 Filed 6-14-11; 4:15 pm]

BILLING CODE 8011-01-P